DEPARTMENT OF THE INTERIOR

National Park Service

[NPS-WASO-NAGPRA-23693; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the Denver Museum of Nature & Science. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Denver Museum of Nature & Science at the address in this notice by September 27, 2017.

ADDRESSES: Chip Colwell, Denver Museum of Nature & Science, 2001 Colorado Boulevard, Denver, CO 80205, telephone (303) 370-6378, email chip.colwell@dmns.org.

SUPPLEMENTARY INFORMATION: Notice is here given in accordance with the Native American Graves Protection and Repatriation Act (NAGPRA), 25 U.S.C. 3005, of the intent to repatriate cultural items under the control of the Denver Museum of Nature & Science, Denver, CO, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Prior to 1964, 10 cultural items were removed from The Pueblo of Acoma in Cibola County, NM. The 10 sacred objects and objects of cultural patrimony include one Katsina Uuwaa'ka (AC.6501), collected by Byron Harvey III, a great grandson of Fred Harvey; one Katsina Uuwaa'ka (AC.7696), collected by the Taos Book Shop; one Katsina Uuwaa'ka (AC.4820), collected by William S. Dutton of La Posada Gift Shop; one ceremonial pot (AC.118), used to keep ceremonial paint and to collect rain water to make ceremonial medicine for curing ceremonies, collected by Erich Kohlberg of Kohlberg's Antiques and Indian Arts; two ceremonial pots (AC.2278 and AC.2279), used in kivas for ceremony, collected by Julius Gans, of Southwest Arts and Crafts in Santa Fe, NM; and four prayer sticks (AC.4809A, AC.4809C, AC4809D, and AC.4809E), collected by William S. Dutton of La Posada Gift Shop. All of the cultural objects were purchase by Mary and Francis Crane between 1954 and 1964. The Cranes then donated nine of the items to DMNS on May 27, 1983. The ceremonial pot (AC.118) was donated to DMNS in November of 1972.

Cultural affiliation was established through documentation, consultation, and notification procedures undertaken by Damian Garcia and Aaron Sims, and corroborated by the DMNS's accession documentation, showing cultural affiliation with the Pueblo of Acoma.

Determinations Made by the Denver Museum of Nature & Science

Officials of the Denver Museum of Nature & Science have determined that:

• Pursuant to 25 U.S.C. 3001(3)(C), the 10 cultural items described above are specific ceremonial objects needed by traditional Native American religious leaders for the practice of traditional Native American religions by their present-day adherents.

• Pursuant to 25 U.S.C. 3001(3)(D), the 10 cultural items described above have ongoing historical, traditional, or cultural importance central to the Native American group or culture itself, rather than property owned by an individual.

• Pursuant to 25 U.S.C. 3001(2), there is a relationship of shared group identity that can be reasonably traced between the sacred objects and objects of cultural patrimony and the Pueblo of Acoma.

Additional Requestors and Disposition

Lineal descendants or representatives of any Indian Tribe or Native Hawaiian organization not identified in this notice that wish to claim these cultural items should submit a written request with information in support of the claim to Chip Colwell, Denver Museum of Nature & Science, 2001 Colorado Boulevard, Denver, CO 80205, telephone (303) 370-6378, email chip.colwell@dmns.org, by September 27, 2017. After that date, if no additional claimants have come forward, transfer of control of the sacred objects and objects of cultural patrimony to the Pueblo of Acoma may proceed.

The Denver Museum of Nature & Science is responsible for notifying the Pueblo of Acoma that this notice has been published.

Dated: July 5, 2017.
Melanie O'Brien,
Manager, National NAGPRA Program.

[FR Doc. 2017-18184 Filed 8-25-17; 8:45 am]

BILLING CODE 4312-52-P